ENVIRONMENTAL PROTECTION AGENCY

40 CFR Part 52

[EPA-R10-OAR-2011-0799; FRL-9936-02-Region 10]

Air Plan Approval; OR; Portland, Medford, Salem; Clackamas, Multnomah, Washington Counties; Gasoline Dispensing Facilities

AGENCY: Environmental Protection Agency (EPA).

ACTION: Proposed rule.

SUMMARY: The Environmental Protection Agency (EPA) is proposing to approve three state implementation plan (SIP) revisions submitted by the State of Oregon Department of Environmental Quality (Oregon or ODEQ) and a specific portion of a fourth SIP submittal identified in a supplementary letter. These SIP submittals primarily include rule amendments related to control measures for volatile organic compounds from gasoline dispensing facilities in the Portland-Vancouver, Medford-Ashland, and Salem-Keizer Area Transportation Study air quality management areas, as well as all of Clackamas, Multnomah, and Washington counties. The EPA received the SIP submittals from the ODEQ on February 5, 2009, November 1, 2010, May 25, 2011, and April 20, 2015, and the supplementary letter on September 18, 2015. The EPA is proposing to approve the SIP submittals because they are consistent with the requirements of the Clean Air Act (Act or CAA).

DATES: Comments must be received on or before November 27, 2015.

ADDRESSES: Submit your comments, identified by Docket ID No. EPA-R10-OAR-2011-0799, by any of the following methods:

• Federal eRulemaking Portal http://www.regulations.gov: Follow the on-line instructions for submitting comments.

• Email: vaupel.claudia@epa.gov.

• Mail: Claudia Vergnani Vaupel, U.S. EPA Region 10, Office of Air, Waste and Toxics, AWT-150, 1200 Sixth Avenue, Suite 900, Seattle, WA 98101.

• Hand Delivery/Courier: U.S. EPA Region 10, 1200 Sixth Avenue, Suite 900, Seattle, WA 98101. Attention: Claudia Vergnani Vaupel, Office of Air, Waste and Toxics, AWT-150. Such deliveries are only accepted during normal hours of operation, and special arrangements should be made for deliveries of boxed information.

Please see the direct final rule which is located in the Rules section of this Federal Register for detailed instructions on how to submit comments.

FOR FURTHER INFORMATION CONTACT: Claudia Vergnani Vaupel at (206) 553-6121, vaupel.claudia@epa.gov, or the above EPA, Region 10 address.

SUPPLEMENTARY INFORMATION: For further information, please see the direct final action, of the same title, which is located in the Rules section of this Federal Register. The EPA is approving the State's SIP revisions as a direct final rule without prior proposal because the EPA views this as a noncontroversial SIP action and anticipates no adverse comments. A detailed rationale for the approval is set forth in the preamble to the direct final rule. If the EPA receives no adverse comments, the EPA will not take further action on this proposed rule.

If the EPA receives adverse comments, the EPA will withdraw the direct final rule and it will not take effect. The EPA will address all public comments in a subsequent final rule based on this proposed rule. The EPA will not institute a second comment period on this action. Any parties interested in commenting on this action should do so at this time. Please note that if we receive adverse comment on an amendment, paragraph, or section of this rule and if that provision may be severed from the remainder of the rule, the EPA may adopt as final those provisions of the rule that are not the subject of an adverse comment.

Dated: September 25, 2015.
Michelle Pirzadeh,
Acting Regional Administrator, Region 10.

[FR Doc. 2015-27169 Filed 10-26-15; 8:45 am]

BILLING CODE 6560-50-P